DEPARTMENT OF COMMERCE

International Trade Administration

[A-570-831]

Fresh Garlic From the People's Republic of China: Notice of Extension of Time Limit for the Preliminary Results of Antidumping Duty Administrative Review

AGENCY: Import Administration, International Trade Administration, Department of Commerce.

SUMMARY: The Department of Commerce is extending the time limit for the preliminary results of the administrative review of the antidumping duty order on fresh garlic from the People's Republic of China until November 29, 2004. This extension applies to the administrative review of seventeen exporters, Clipper Manufacturing Ltd., Jinxiang Dong Yun Freezing Storage Co., Ltd., Fook Huat Tong Kee Pte., Ltd., H&T Trading Company, Huaiyang Hongda Dehydrated Vegetable Company, Jinxiang Hongyu Freezing and Storing Co., Ltd., Jinan Yipin Corporation, Ltd., Linshu Dading Private Agricultural Products Co., Ltd., Linyi Sanshan Import & Export Trading Co., Ltd., Shandong Heze International Trade and Developing Co., Shanghai Ever Rich Trade Company, Sunny Import & Export Limited, Taian Ziyang Food Co., Ltd, Tancheng County Dexing Foods Co., Ltd., Jining Trans-High Trading Co., Ltd., Xiangcheng Yisheng Foodstuffs Co., and Zhengzhou Harmoni Spice Co., Ltd. The period of review is November 1, 2002, through October 31, 2003.

EFFECTIVE DATE: July 15, 2004.

FOR FURTHER INFORMATION CONTACT: Minoo Hatten or Mark Ross, AD/CVD Enforcement, Import Administration, International Trade Administration, U.S. Department of Commerce, 14th Street and Constitution Avenue, NW., Washington, DC 20230; telephone: (202) 482-1690 and (202) 482-4792, respectively.

Background

On December 24, 2003, the Department of Commerce (the Department) published in the Federal Register the Notice of Initiation of Antidumping and Countervailing Duty Administrative Reviews (68 FR 74550), in which it initiated an administrative review of the antidumping duty order on fresh garlic from the People's Republic of China (PRC).

Extension of Time Limit for Preliminary Results

Section 751(a)(3)(A) of the Tariff Act of 1930, as amended (the Act), provides that the Department will issue the preliminary results of an administrative review of an antidumping duty order within 245 days after the last day of the anniversary month of the date of publication of the order. The Act provides further that the Department may extend that 245-day period to 365 days if it determines it is not practicable to complete the review within the foregoing time period.

The Department has determined that it is not practicable to complete the preliminary results by the current deadline of August 2, 2004. There are a number of complex factual and legal questions related to the calculation of the antidumping margins in this administrative review, in particular the analysis of the valuation of the factors of production. We require additional time to issue supplemental questionnaires, review the responses, and verify certain information. Therefore, in accordance with section 751(a)(3)(A) of the Act, the Department is extending the time limit for the preliminary results by 120 days, until no later than November 29, 2004.

We are issuing and publishing this notice in accordance with sections 751(a)(1) and 777(i)(1) of the Act.

Dated: July 8, 2004.
Jeffrey A. May,
Deputy Assistant Secretary for Import Administration, Group I.

[FR Doc. 04-15983 Filed 7-14-04; 8:45 am]

BILLING CODE 3510-DS-P